SMALL BUSINESS ADMINISTRATION

Novus Ventures II, L.P.

Notice Seeking Exemption Under Section 312 of the Small Business Investment Act, Conflicts of Interest

Notice is hereby given that Novus Ventures II, L.P., 20111 Stevens Creek Blvd., Suite 130, Cupertino, California 95014, a Federal Applicant under the Small Business Investment Act of 1958, as amended (“the Act”), in connection with the financing of a small concern, has sought an exemption under section 312 of the Act and section 107.730, Financings which Constitute Conflicts of Interest of the Small Business Administration (“SBA”) rules and regulations (13 CFR 107.730 (2000)). Novus Ventures II, L.P. proposes to provide equity financing to Taviz Technologies, Inc. (“Taviz”), 1121 San Antonio Rd., B101, Palo Alto, California 94303. The financing is contemplated for product development and working capital.

The financing is brought within the purview of Sec. 107.730(a)(1) of the Regulations because Novus Ventures I, L.P., an Associate of Novus Ventures II, L.P. currently owns greater than 10 percent of Taviz Technologies, Inc. and therefore Novus Ventures I, L.P. is considered an Associate of Novus Ventures II, L.P. as defined in Sec. 107.50 of the regulations.

Notice is hereby given that any interested person may submit written comments on the transaction to the Associate Administrator for Investment, U.S. Small Business Administration, 409 Third Street, SW, Washington, DC 20416.

Dated: August 9, 2000.
Don A. Christensen,
Associate Administrator for Investment.

[FR Doc. 00-20868 Filed 8-16-00; 8:45 am]

BILLING CODE 8025-01-P